DEPARTMENT OF TRANSPORTATION

Federal Aviation Administration

14 CFR Part 39

[Docket No. 2002-NM-48-AD; Amendment 39-13034; AD 2003-03-10]

RIN 2120-AA64

Airworthiness Directives; BAE Systems (Operations) Limited Model BAe 146 and Avro 146-RJ Series Airplanes

AGENCY: Federal Aviation Administration, DOT.

ACTION: Final rule.

SUMMARY: This amendment adopts a new airworthiness directive (AD), applicable to all BAE Systems (Operations) Limited Model BAe 146 and Avro 146-RJ series airplanes, that requires replacement of the existing “Low Temp” terminal blocks “G” with new, fireproof ceramic terminal blocks “G” in engine zones 412, 422, 432, and 442. This action is necessary to prevent failure of the engine fire detection and suppression systems to operate properly in the event of a fire due to failure of non-fireproof terminal blocks, which could result in an undetected and uncontrollable fire in an engine. This action is intended to address the identified unsafe condition.

DATES: Effective March 7, 2003.

The incorporation by reference of certain publications listed in the regulations is approved by the Director of the Federal Register as of March 7, 2003.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all BAE Systems (Operations) Limited Model BAe 146 and Avro 146-RJ series airplanes was published in the Federal Register on May 15, 2002 (67 FR 34633). That action proposed to require replacement of the existing “Low Temp” terminal blocks “G” with new, fireproof ceramic terminal blocks “G” in engine zones 412, 422, 432, and 442.

Comments

Interested persons have been afforded an opportunity to participate in the making of this amendment. Due consideration has been given to the comment received.

Request To Extend the Compliance Time

One commenter requests that the FAA extend the compliance time for the replacement in the proposed AD from 21 months to July 31, 2004, (the equivalent of an additional 12 months). The commenter states that the request is based upon limited parts availability and feedback from large fleet operators. The commenter also states that the Civil Aviation Authority for the United Kingdom has approved the extension of the compliance time for airplanes operating in the United Kingdom.

The FAA concurs with the commenter's request. We have verified that the lead time for obtaining the required modification parts will exceed the proposed compliance time of 21 months. In light of this situation, we will extend the compliance time from 21 months to 31 months after the effective date of this AD. We have determined that such an extension will accommodate the time necessary for affected operators to order and obtain the replacement parts, without adversely affecting safety. We have revised paragraph (a) of this AD accordingly.

Explanation of New Relevant Service Information

Since issuance of the proposed AD, the manufacturer has issued BAE Systems (Operations) Limited Service Bulletin SB.71-077-01693A, Revision 1, dated March 28, 2002; and Revision 2, dated May 28, 2002. The proposed rule referenced the original issue of this service bulletin, dated October 10, 2001, as the appropriate source of service information for the proposed replacement. We find that the procedures described in Revision 1 and Revision 2 of the service bulletin are essentially the same as those in the original issue. Therefore, we have revised paragraph (a) of the final rule to reference Revision 2 of the service bulletin as the appropriate source of service information. We have also included a new paragraph (b) to this final rule (and re-lettered subsequent paragraphs accordingly) to give credit for replacements accomplished before the effective date of this AD per the original issue or Revision 1 of the service bulletin.

Conclusion

After careful review of the available data, including the comment noted above, we have determined that air safety and the public interest require the adoption of the rule with the changes described previously. We have determined that these changes will neither increase the economic burden on any operator nor increase the scope of the AD.

Cost Impact

We estimate that 55 Model BAe 146 and Avro 146-RJ series airplanes of U.S. registry will be affected by this AD, that it will take approximately 4 work hours per airplane (1 hour per engine, 4 engines per airplane) to accomplish the required actions, and that the average labor rate is $60 per work hour. The cost for required parts will be negligible. Based on these figures, the cost impact of the AD on U.S. operators is estimated to be $13,200, or $240 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-03-10 BAE Systems (Operations) Limited: Amendment 39-13034. Docket 2002-NM-48-AD.

Applicability: All Model BAE 146 and Avro 146-RJ series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the engine fire detection and suppression systems to operate properly in the event of a fire, which could result in an undetected and uncontrollable fire in an engine, accomplish the following:

Replacement

(a) Within 31 months after the effective date of this AD, replace the existing “Low Temp” terminal blocks “G” with new, fireproof ceramic terminal blocks “G,” part number S3409-872, in engine zones 412, 422, 432, and 442; per BAE Systems (Operations) Limited Service Bulletin SB.71-077-01693A, Revision 2, dated May 28, 2002.

(b) Replacements accomplished prior to the effective date of this AD per BAE Systems (Operations) Limited Service Bulletin SB.71-077-01693A, dated October 10, 2001; or Revision 1, dated March 28, 2002; are acceptable for compliance with the requirements of paragraph (a) of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) Unless otherwise specified in this AD, the replacement shall be done per BAE Systems (Operations) Limited Service Bulletin SB.71-077-01693A, Revision 2 dated May 28, 2002. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 3: The subject of this AD is addressed in British airworthiness directive 005-10-2001.

Effective Date

(f) This amendment becomes effective on March 7, 2003.

Issued in Renton, Washington, on January 22, 2003.
Vi L. Lipski,
Manager, Transport Airplane Directorate, Aircraft Certification Service.

[FR Doc. 03-1955 Filed 1-30-03; 8:45 am]

BILLING CODE 4910-13-P